DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (301) 443-7978.

Comments are invited on: (a) whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Measuring Progress of Consumer Involvement in Public Managed Behavioral Health Care—New—The tremendous growth of managed care over the last ten years has dramatically changed the ways that public sector mental health and substance abuse services are organized and funded. The numbers of persons enrolled in managed care programs under Medicaid increased from 10 percent in 1991 to 54 percent in 1998, with escalating numbers of persons with disabilities included under the programs. The number of States with managed care programs in public mental health and substance abuse programs tripled in three years from 14 States in 1996 to 42 States in 1999. Currently, there are 39 States operating managed behavioral healthcare programs. The decrease is due to the fact that a few States terminated or did not implement planned programs.

SAMHSA has engaged in a number of projects to improve the genuine participation of consumers and family members in the design, procurement, implementation and evaluation of managed care programs in the public system. Under the SAMHSA Managed Care Initiative, a group of consumers, family members and advocacy groups developed the Partners in Planning Guide to educate consumers and family members on becoming active in designing managed care systems in their State. A related project supported training on the Guide at national and grassroots venues to advocated as well as persons with mental illnesses and/or chemical dependencies.

However, the impact of these and other efforts to promote greater inclusion of consumers and family members in system design remains largely unmeasured. The objective of this effort, sponsored by SAMHSA's Office of Managed Care, is to identify progress of the consumer and family member involvement in managed care. A survey will assess the level of consumer/family involvement in managed care design, implementation and evaluation. More specifically, mental health and substance abuse consumer leaders in targeted States will be surveyed about their involvement in Medicaid and waivered programs with behavioral healthcare services to assess: how consumer/family involvement has evolved over the past five years and identify areas of improvement and areas that still need improvement and reasons for the changes; the consumer's specific roles in formal governmental bodies, such as serving on the legislative commissions or governor advisory boards, etc; whether consumers and family members are finding useful the SAMHSA technical assistance documents and other resources for consumers and family members about managed behavioral healthcare. The resulting information will be shared with SAMHSA leadership and constituents to identify what works and best practices and to guide SAMHSA activities to further promotion of consumer and family involvement in managed care.

Participants in the survey will be identified through a combination of databases for the following constituencies: consumers/survivors, family members, and persons in recovery from substance abuse problems. In addition, recommendations from local mental health association and other advocate will be sought. The survey will involve approximately 3-5 individuals in each of 15 States. Total burden for this single-time survey is as follows:

Number of respondents | Responses/ respondent | Burden/ response | Total burden (hrs.)
75 | 1 | .37 | 28

Send comments to Nancy Pearce, SAMHSA Reports Clearance Officer, Room 16-105, Parklawn Building, 5600 Fishers Lane, Rockville, MD 20857. Written comments should be received within 60 days of this notice.

Dated: November 28, 2000.
Richard Kopanda,
Executive Officer, SAMHSA.

[FR Doc. 00-31003 Filed 12-5-00; 8:45 am]

BILLING CODE 4162-20-P